DEPARTMENT OF ENERGY

Federal Energy Regulatory Commission

[Project No. 11541-001 Idaho]

Atlanta Power Company; Notice of Availability of Draft Environmental Assessment

August 3, 2000.

In accordance with the National Environmental Policy Act of 1969 and the Federal Energy Regulatory Commission's (Commission) regulations, 18 CFR part 380 (Order No. 486, 52 FR 47897), the Office of Energy Projects has reviewed the application for an original license for the Atlanta Power Station Hydroelectric Project, and has prepared a Draft Environmental Assessment (DEA). The operating project is located on the Middle Fork Boise River near the town of Atlanta (75 miles from the nearest populated area), in Elmore County, Idaho. Water to operate the run-of-river project is diverted at Kirby dam which is owned and operated by the U.S. Forest Service (FS). The project occupies about 3.3 acres of land within the Boise National Forest, administered by the FS. The DEA contains the staff's analysis of the potential environmental impacts of the project and concludes that licensing the project with appropriate environmental protective measures, would not constitute a major federal action that would significantly affect the quality of the human environment.

Copies of the DEA are available for review in the Public Reference Room, Room 2A, of the Commission's offices at 888 First Street, NE., Washington, DC 20426. This filing may also be viewed on the web at http://www.ferc.fed.us/online/rims.htm (please call (202) 208-2222 for assistance).

Any comments should be filed within 30 days from the date of this notice and should be addressed to David P. Boergers, Secretary, Federal Energy Regulatory Commission, 888 First Street, NE., Washington, DC 20426. For further information, contact Gaylord Hoisington, Project Coordinator, at (202) 219-2756.

David P. Boergers,
Secretary.

[FR Doc. 00-20065 Filed 8-8-00; 8:45 am]

BILLING CODE 6717-01-M